DEPARTMENT OF AGRICULTURE

Forest Service

Tuolumne-Mariposa Counties Resource Advisory Committee

AGENCY: Forest Service, USDA.

ACTION: Notice of Meeting.

SUMMARY: The Tuolumne-Mariposa Counties Resource Advisory Committee will meet on May 5, 2014, May 19, 2014, and June 2, 2014), at the City of Sonora Fire Department, in Sonora, California. The purpose of the meeting is to reprioritize projects due to expected decreases to Title II RAC funding.

DATES: The meeting on May 5, 2014, from 12:00 p.m. to 3:00 p.m. is to review project proposals. The meeting on May 19, 2013, from 9:00 a.m. to 3:00 p.m. is for RAC to hear presentations by project proponents. The meeting on June 2, 2013, from 12:00 p.m. to 4:00 p.m. is to vote on which projects to recommend for funding.

ADDRESSES: The meetings will all be held at the City of Sonora Fire Department located at 201 South Shepherd Street, in Sonora, California (CA 95370).

FOR FURTHER INFORMATION CONTACT: Beth Martinez, Committee Coordinator, USDA, Stanislaus National Forest, 19777 Greenley Road, Sonora, CA 95370, (209) 532-3671, extension 320; email bethmartinez@fs.fed.us.

SUPPLEMENTARY INFORMATION: All meetings are open to the public and the public is invited to comment on meeting proceedings.

Dated: March 12, 2014.
Scott Tangenberg,
Acting Forest Supervisor.

[FR Doc. 2014-06164 Filed 3-20-14; 8:45 am]

BILLING CODE 3410-11-P